DEPARTMENT OF LABOR

Agency Information Collection Activities; Submission for OMB Review; Comment Request, Reemployment Services and Eligibility Assessment (RESEA) Evidence Building Portfolio Project, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Reemployment Services and Eligibility Assessment (RESEA) Evidence Building Portfolio Project. A copy of the proposed Information Collection Request (ICR) can be obtained by contacting the office listed below in the addressee section of this notice.

DATES: Written comments must be submitted to the office listed in the addressee section below on or before October 7, 2024.

ADDRESSES: You may submit comments by either one of the following methods:

Email: ChiefEvaluationOffice@dol.gov; Mail or Courier: Megan Lizik, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Megan Lizik by email at ChiefEvaluationOffice@dol.gov or by phone at (202) 430-1255.

SUPPLEMENTARY INFORMATION:

I. Background: DOL funds RESEA programs across all 50 states, DC, Puerto Rico, and the Virgin Islands. States and territories use these funds to address the reemployment services needs of Unemployment Insurance (UI) claimants and to prevent and detect UI improper payments (Unemployment Insurance Program Letter 08-24). The Bipartisan Budget Act (BBA) of 2018 (Pub. L. 115-123) contains requirements to “establish and expand the use of evidence-based interventions” in states' RESEA programs. To help meet this requirement and build evidence about RESEA, DOL is funding several studies including the RESEA Component Impact Study, the RESEA Behavioral Impact Study and the RESEA Cost Study. The RESEA Impact Studies will help participating states meet the RESEA evaluation requirement under the BBA while simultaneously building casual evidence on program components that are of interest to states for RESEA program improvement. The RESEA Cost Study will help DOL and states better understand how costs of implementing RESEA programs vary by program and place.

This Federal Register Notice provides the opportunity to comment on several new proposed information collection activities that will be used for the studies across this contract.

1. Semi-structured program stakeholder interview protocols. Site visits for the RESEA Impact Study (Component Impact Study) will occur in the Spring of 2025 and Summer of 2026 in approximately six states. Site visits or virtual interviews for the RESEA Impact Study (Behavioral Study) will occur in the Summer of 2025 in approximately two states. These visits will last 3 days each. During these site visits, we will conduct one-on-one or small-group semi-structured interviews with managers and staff at up to three American Job Centers (AJCs) or local Workforce Development Boards (WDBs), as appropriate. We will also observe program activities for both the Component Impact Study and Behavioral Study to help us describe key program components, assess the quality of program delivery, and understand participant needs. The observations will not involve additional burden. Site visits for the RESEA Cost Study will take place in Summer of 2025 in three states, with staff interviews at the central State Workforce Agency and approximately 4 AJCs per state. The combined site visits will last 5 days in each state. During these site visits, we will conduct one-on-one or small-group semi-structured interviews with staff including approximately 4 program staff at each of the 3 central offices and 6 staff at each of the 4 AJCs per state.

2. Participant focus group protocols. During the site visits for both the RESEA Component Impact Study and RESEA Cost Study, we will also conduct focus groups at each site. For the RESEA Component Impact Study, we will conduct one focus group per site with approximately four to six claimants participating in the study. For the RESEA Cost Study, we will conduct 90-minute focus groups at up to 12 AJCs to understand the costs claimants' experience when participating in the RESEA program.

3. Participant interview protocols. For the RESEA Behavioral Impact Study, we will conduct 9 participant interviews per State, for a total of 18 interviews.

II. Desired Focus of Comments: Currently, the Department of Labor is soliciting comments concerning the above data collection for the Reemployment Services and Eligibility Assessment (RESEA) Evidence Building Portfolio Project. DOL is particularly interested in comments that do the following:

○ evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, the Department of Labor is requesting clearance for the semi-structured program stakeholder interview protocols, participant interview protocols, and participant focus group protocols.

Type of Review: New information collection request.

OMB Control Number: 1290-0NEW.

Affected Public: State, Local, and Tribal Government; Individuals or Households.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
RESEA Impact Study: Component
Semi-structured program manager interview protocol | ¹ 18 | 1 | 18 | 1 | 18
Semi-structured program staff interview protocol | ² 54 | 1 | 54 | 1 | 54
Participant interview protocol | ³ 54 | 1 | 54 | 0.5 | 27
RESEA Impact Study: Behavioral
Semi-structured program manager interview protocol | ⁴ 2 | 1 | 2 | 1 | 2
Semi-structured program staff interview protocol | ⁵ 6 | 1 | 6 | 1 | 6
Participant interview protocol | ⁶ 8 | 1 | 8 | 1 | 8
RESEA Cost Study
Semi-structured program stakeholder interview protocol | ⁷ 28 | 1 | 28 | 1.5 | 42
Participant focus group protocol | ⁸ 32 | 1 | 32 | 1.5 | 48
Total
Total | 202 |  | 202 |  | 205
¹ Assumes 3 site visits × 6 states, each including approximately 3, 1-hr semi-structured manager interviews for a total of 54 program managers and 54 hours over the three-year clearance period; an average of 18 respondents and 18 hours per year.
² Assumes 3 site visits × 6 states, each including approximately 9, 1-hr semi-structured staff interviews for a total of 162 program staff members and 162 hours over the three-year clearance period; an average of 54 respondents and 54 hours per year.
³ Assumes 3 site visits × 6 states, each including approximately 9, 0.5-hr semi-structured participant interviews for a total of 162 program participants and 81 hours over the three-year clearance period; an average of 54 respondents and 27 hours per year.
⁴ Assumes 1 site visits × 2 states, each including approximately 3, 1-hr semi-structured management interviews for a total of 6 program managers and 6 hours over the three-year clearance period; an average of 2 respondents and 2 hours per year.
⁵ Assumes 1 site visits × 2 states, each including approximately 9, 1-hr semi-structured staff interviews for a total of 18 program staff members and 18 hours over the three-year clearance period; an average of 6 respondents and 6 hours per year.
⁶ Assumes 1 site visits × 2 states, each including approximately 12, 1-hr semi-structured participant interviews for a total of 24 program participants and 24 hours over the three-year clearance period; an average of 8 respondents and 8 hours per year.
⁷ Assumes 1 site visit × 3 states, each including 28, 1.5-hr staff interviews for a total of 84 respondents and 126 hours over the three-year clearance period; an average of 28 respondents and 42 hours per year.
⁸ Assume 1 site visit × 3 states, each including 4, 1.5-hr focus groups with approximately 8 program participants in each group for a total of 96 participants and 144 hours over the three-year clearance period; an average of 32 participants and 48 hours per year.

Upeksha Savi Swick,
Director of Research, Chief Evaluation Office, U.S. Department of Labor.

[FR Doc. 2024-17585 Filed 8-7-24; 8:45 am]

BILLING CODE 4510-HX-P